DEPARTMENT OF DEFENSE

Office of the Secretary

[Transmittal Nos. 14-10]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives,

Transmittals 14-10 with attached transmittal, policy justification, and Sensitivity of Technology.

Dated: April 28, 2014.
Aaron Siegel,
Alternate OSD Federal Register Liaison Officer, Department of Defense.

BILLING CODE 5001-06-P

BILLING CODE 5001-06-C

Transmittal No. 14-10

Notice of Proposed Issuance of Letter of Offer Pursuant to Section 36(b)(1) of the Arms Export Control Act, as amended

(i) Prospective Purchaser: Mexico

(ii) Total Estimated Value:

Major Defense Equipment* | $525 million
Other | $155 million
TOTAL | $680 million

(iii) Description and Quantity or Quantities of Articles or Services under Consideration for Purchase:

18 UH-60M Black Hawk Helicopters in standard USG configuration with designated unique equipment and Government Furnished Equipment (GFE)

40 T700-GE-701D Engines (36 installed and 4 spares)

42 Embedded Global Positioning Systems/Inertial Navigation Systems (36 installed and 6 spares)

36 M134 7.62mm Machine Guns

5 Aviation Mission Planning Systems

18 AN/AVS-9 Night Vision Goggles

1 Aviation Ground Power Unit

Also included are communication security equipment including AN/ARC-210 RT-8100 series radios, Identification Friend or Foe (IFF) systems, aircraft warranty, air worthiness support, facility construction, spare and repair parts, support equipment, communication equipment, publications and technical documentation, personnel training and training equipment, site surveys, tool and test equipment, U.S. Government and contractor technical and logistics support services, and other related element of program, technical and logistics support.

(iv) Military Department: Army (UES)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 17 April 2014

* as defined in Section 47(6) of the Arms Export Control Act

POLICY JUSTIFICATION

Mexico—UH-60M Black Hawk Helicopters

The Government of Mexico has requested a possible sale of 18 UH-60M Black Hawk Helicopters in standard USG configuration with designated unique equipment and Government Furnished Equipment (GFE), 40 T700-GE-701D Engines (36 installed and 4 spares), 42 Embedded Global Positioning Systems/Inertial Navigation Systems (36 installed and 6 spares), 36 M134 7.62mm Machine Guns, 5 Aviation Mission Planning Systems, 18 AN/AVS-9 Night Vision Goggles, and 1 Aviation Ground Power Unit. Also included are communication security equipment including AN/ARC-210 RT-8100 series radios, Identification Friend or Foe (IFF) systems, aircraft warranty, air worthiness support, facility construction, spare and repair parts, support equipment, publications and technical documentation, personnel training and training equipment, site surveys, tool and test equipment, U.S. Government and contractor technical and logistics support services, and other related element of program, technical and logistics support. The estimated cost is $680 million.

This proposed sale will contribute to the foreign policy and national security of the United States by helping to improve the security of a strategic partner. Mexico has been a strong partner in combating organized crime and drug trafficking organizations. The sale of these UH-60M helicopters to Mexico will significantly increase and strengthen its capability to provide in-country airlift support for its forces engaged in counter-drug operations.

Mexico intends to use these defense articles and services to modernize its armed forces and expand its existing army architecture in its efforts to combat drug trafficking organizations.

The proposed sale of this equipment and support will not alter the basic military balance in the region.

The principal contractors will be Sikorsky Aircraft Company in Stratford, Connecticut; and General Electric Aircraft Company (GEAC) in Lynn, Massachusetts. There are no known offset agreements in connection with this potential sale.

Implementation of this proposed sale may require the assignment of an additional three U.S. Government and five contractor representatives in country full-time to support the delivery and training for approximately two years.

There will be no adverse impact on U.S. defense readiness as a result of this proposed sale.

Transmittal No. 14-10

Notice of Proposed Issuance of Letter of Offer Pursuant to Section 36(b)(1) of the Arms Export Control Act

Annex

Item No. vii

(vii) Sensitivity of Technology:

1. The UH-60M aircraft is a medium lift aircraft which includes two T-701D Engines, and the Common Avionics Architecture System (CAAS) cockpit, which provides aircraft system, flight, mission, and communication management systems. The CAAS includes five Multifunction Displays (MFDs), two General Purpose Processor Units (GPPUs), two Control Display Units (CDUs) and two Data Concentrator Units (DCUs). The Navigation System will have Embedded GPS/INS (EGIs), two Digital Advanced Flight Control Systems (DAFCS), one ARN-149 Automatic Direction Finder, one ARN-147 (VOR/ILS marker Beacon System), one ARN-153 TACAN, two air data computers, and one Radar Altimeter system. The communication equipment includes the AN/APX-118 Identification Friend of Foe (IFF) system. The AN/ARC-210 RT-8100 Series V/UHF radio will be included in the UH-60M configuration. Exportable HF or Single Channel Ground and Airborne Radio System (SINCGARS) radio capability may be included in the future.

2. The AN/APX-118 IFF Transponder is capable of Modes 1, 2, 3, 3a, and the system is unclassified unless loaded with IFF Mode 4 keying material, in which case it will become classified Secret.

3. The AN/ARC-210 RT-8100 Series radio is a V/UHF voice and data capable radio using commercial encryption.

4. The Embedded GPS/INS (EGI) unit H-764G provides GPS and INS capabilities to the aircraft. The EGI will include Selective Availability anti-Spoofing Module (SAASM) security modules to be used for secure GPS PPS if required.

5. If a technologically advanced adversary were to obtain knowledge of the specific hardware and software elements, the information could be used to develop countermeasures or equivalent systems which might reduce weapon system effectiveness or be used in the development of a system with similar or advanced capabilities.

6. A determination has been made that the recipient country can provide the same degree of protection for the sensitive technology being released as the U.S. Government. This sale is necessary in furtherance of the U.S. foreign policy and national security objectives outlined in the Policy Justification.

7. All defense articles and services listed in this transmittal have been authorized for release and export to the Government of Mexico.

[FR Doc. 2014-10023 Filed 5-1-14; 8:45 am]

BILLING CODE 5001-06-P